DEPARTMENT OF THE TREASURY

Office of Foreign Assets Control

Notice of OFAC Sanctions Action

AGENCY: Office of Foreign Assets Control, Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: This action was issued on February 26, 2026. See Supplementary Information for relevant dates.

FOR FURTHER INFORMATION CONTACT: OFAC: Associate Director for Global Targeting, 202-622-2420; Assistant Director for Sanctions Compliance, 202-622-2490 or https://ofac.treasury.gov/contact-ofac.

SUPPLEMENTARY INFORMATION:

Electronic Availability

The SDN List and additional information concerning OFAC sanctions programs are available on OFAC's website: https://ofac.treasury.gov.

Notice of OFAC Action

On February 26, 2026, OFAC determined that the property and interests in property subject to U.S. jurisdiction of the following persons are blocked under the relevant sanctions authority listed below.

Individuals

1. MEMBRENO RIVAS, Denis, Managua, Nicaragua; DOB 16 Jul 1956; POB Leon, Nicaragua; nationality Nicaragua; Gender Male; National ID No. 2811607560007V (Nicaragua) (individual) [NICARAGUA].

Designated pursuant to section 1(a)(iii) of Executive Order 13851 of November 27, 2018, “Blocking Property of Certain Persons Contributing to the Situation in Nicaragua,” as amended by Executive Order 14088 of October 24, 2022, “Taking Additional Steps To Address the National Emergency With Respect to the Situation in Nicaragua,” for being an official of the Government of Nicaragua or having served as an official of the Government of Nicaragua at any time on or after January 10, 2007.

2. FLORES JIMENEZ, Johana Vanessa, Managua, Nicaragua; DOB 24 Feb 1971; POB Managua, Nicaragua; nationality Nicaragua; Gender Female; National ID No. 0012402710038N (Nicaragua) (individual) [NICARAGUA].

Designated pursuant to section 1(a)(iii) of E.O. 13851 for being an official of the Government of Nicaragua or having served as an official of the Government of Nicaragua at any time on or after January 10, 2007.

3. GUTIERREZ LOPEZ, Leonel Jose, Managua, Nicaragua; DOB 09 Feb 1963; POB Managua, Nicaragua; nationality Nicaragua; Gender Male; National ID No. 0010902630041C (Nicaragua) (individual) [NICARAGUA].

Designated pursuant to section 1(a)(iii) of E.O. 13851 for being an official of the Government of Nicaragua or having served as an official of the Government of Nicaragua at any time on or after January 10, 2007.

4. REYES OCHOA, Celia Margarita (a.k.a. REYES OCHOA, Celia), Managua, Nicaragua; DOB 16 Sep 1983; POB Matagalpa, Nicaragua; nationality Nicaragua; Gender Female; National ID No. 4411609830008V (Nicaragua) (individual) [NICARAGUA].

Designated pursuant to section 1(a)(iii) of E.O. 13851 for being an official of the Government of Nicaragua or having served as an official of the Government of Nicaragua at any time on or after January 10, 2007.

5. SAENZ ULLOA, Aldo Martin, Nindiri, Masaya, Nicaragua; DOB 12 Nov 1958; POB Chinandega, Nicaragua; nationality Nicaragua; Gender Male; National ID No. 0861211580003G (Nicaragua) (individual) [NICARAGUA].

Designated pursuant to section 1(a)(iii) of E.O. 13851 for being an official of the Government of Nicaragua or having served as an official of the Government of Nicaragua at any time on or after January 10, 2007.

(Authority: E.O. 13851; E.O. 14088.)

Bradley T. Smith,
Director, Office of Foreign Assets Control.

[FR Doc. 2026-04102 Filed 2-27-26; 8:45 am]

BILLING CODE 4810-AL-P